DEPARTMENT OF TRANSPORTATION

Federal Transit Administration

National Resource Center for Human Service Transportation Coordination; Solicitation for Proposals

AGENCY: Federal Transit Administration, DOT.

ACTION: Notice; request for proposals.

SUMMARY: This solicitation is for proposals from national non-profit organizations with transportation coordination and technical assistance expertise for a cooperative agreement to develop and implement a National Resource Center for Human Service Transportation Coordination (NRC). The NCR will manage a program to improve and enhance the coordination of Federal resources for human service transportation with those of the Department of Transportation (DOT). The major goal of the NRC is to assist local communities and States in the expansion and provision of coordinated human service transportation for older adults, people with disabilities, and individuals with lower incomes. Federal Transit Administration (FTA) will award one four year agreement. Year one of the cooperative agreement is for one million, five hundred eighty-four thousand dollars ($1,584,000) as authorized in the Safe, Accountable, Flexible, and Efficient Transportation Equity Act—A Legacy for Users (SAFETEA-LU) and subsequently appropriated. Funding for subsequent years will be based on annual appropriations as well as annual performance reviews.

DATES: Proposals must be submitted electronically by October 30, 2006.

ADDRESSES: Proposals shall be submitted electronically to http://www.grants.gov. Grants.Gov allows organizations to find and apply for funding opportunities electronically from all Federal grant-making agencies. Grants.Gov is the single access point for over 1,000 cooperative agreement programs offered by the 26 Federal grant-making agencies.

Proposals can also be submitted in hard copy accompanied by an electronic version to Bryna Helfer, 400 7th Street, SW., Room 9114, Washington, DC 20590.

FOR FURTHER INFORMATION CONTACT: Bryna Helfer at 202-366-1663; FAX: 202-366-3136; bryna.helfer@dot.gov.

SUPPLEMENTARY INFORMATION: Section 3046 of the Safe, Accountable, Flexible, and Efficient Transportation Equity Act—a Legacy for Users (SAFETEA-LU); Pub. L. 109-059, authorized $1,600,000 in each of fiscal years 2006, 2007, 2008, and 2009 under 49 U.S.C. 5314(c) for the management of a program to improve and enhance the coordination of Federal resources for human service transportation with those of the Department of Transportation, as follows:

(1) Establishment. The Secretary of Transportation shall competitively select a national non-profit organization to manage the program.

(2) Eligibility. To be eligible, an organization shall have demonstrated expertise in issues of transportation coordination and in providing technical assistance to local transportation organizations.

(3) Use of Funds. The organization selected shall (i) Establish an advisory panel consisting of Federal, State and local officials and organizations; (ii) prepare an inventory of human service transportation agencies operating in the United States; (iii) prepare an inventory of Federal transportation spending; (iv) develop a program of technical assistance and training for human service transportation organizations that shall include on-site technical assistance, a resource clearinghouse, and preparation of technical manuals; (v) prepare an annual report for the Secretary of Transportation on activities under this program and make recommendations for improving coordination.

I. Funding Opportunity Description

The Federal Transit Administration (FTA) is soliciting proposals for a cooperative agreement to implement the human service transportation coordination program authorized in SAFETEA-LU. FTA will award a single four-year cooperative agreement, which will be funded annually at up to $1.6 million per year subject to the availability of appropriations. The purpose of this cooperative agreement is to develop and implement a NRC. The major goal of the NRC is to assist States in the coordination of human service transportation service at both the State and local levels. The tasks of the NRC include: (1) Collaboration with FTA and the Federal Interagency Coordinating Council on Access and Mobility; (2) research and development; (3) technical assistance and training; (4) strategic development in partnership, community involvement in human service transportation coordination; (5) communication and management information activities; and (6) administration. The NRC will follow a number of strategies in its development, especially partnerships, leadership development, knowledge management and customer-focused service in order to facilitate capacity building at the State level this is targeted to enhance local coordination efforts. NRCHST personnel will engage early and often with technical assistance (TA) recipients to ensure knowledge is transferred and relationships are developed. The NRC will develop an information and referral system as a key focal point to disseminate models, and identify useful practices for innovations in human service transportation service and systems. The NRC also will build coordination with and referrals to other TA centers focused in targeted areas related to human service transportation to build capacity and integrate aspects of coordination activities at the local levels. This project will entail creative, engaging and collaborative public and private partnerships at all levels—local, tribal, State and Federal, including a broad range of stakeholders interested in facilitating transportation access to employment, health, education, recreation and other community services for people with disabilities, older adults, and individuals with lower incomes.

II. Background

In recognition of the fundamental importance of human service transportation and the continuing need to enhance coordination, President Bush issued an Executive Order on Human Service Transportation Coordination (EO) directing multiple Federal departments and agencies to work together to ensure that transportation services are seamless, comprehensive and accessible. Secretaries from the Departments of Transportation, Health and Human Services, Labor, Education, Interior, Housing and Urban Development, Agriculture, and Veterans Affairs; the Commissioner of the Social Security Administration; the Attorney General; and the Chairperson of the National Council on Disability are members of the Federal Interagency Coordinating Council on Access and Mobility (CCAM). Specifically, the CCAM is tasked with seeking ways to simplify access to transportation services for persons with disabilities, persons with lower incomes, and older adults. The EO requires that CCAM members work together to provide the most appropriate, cost effective services within existing resources, and reduce duplication to make funds available for more services. To meet the requirements of the EO, the CCAM has developed a comprehensive action plan and launched United We Ride (UWR), a national initiative on human service transportation coordination. The NRC will be linked with UWR and related technical assistance initiatives in the area of human service transportation. FTA will be the administering agency for this activity and will be collaborating with other members of CCAM on the implementation of the EO. Therefore, the technical assistance provided under this solicitation will seek to complement and optimize, not duplicate the technical assistance and related work funded in this area by other CCAM partners.

The Safe, Accountable, Flexible, Efficient Transportation Equity Act: A Legacy for Users (SAFETEA-LU), (Pub. L. 109-59, August 10, 2005) requires that projects selected for funding under the Elderly Individuals and Individuals with Disabilities, Job Access Reverse Commute, and New Freedom programs administered by the Federal Transit Administration be “derived from a locally developed, coordinated public transit-human service transportation plan” and that the plan be “developed through a process that includes representatives of public, private, and nonprofit transportation and human service providers and participation by members of the public.” This new requirement leads to a need for an increased level of technical assistance related to the development and implementation of a coordinated public transit-human service transportation plan as well as ensuring broad based participation by diverse stakeholders.

Human service transportation is defined as a network of transportation services for older adults, individuals with disabilities, and people with lower incomes, including but not limited to vehicle acquisition, adaptation and driver transition; pedestrian access; public transportation; demand response (curb to curb, door to door, door through door); vanpooling and other ridesharing services; taxi services; and volunteer services. The technical assistance, to be funded through this cooperative arrangement is a process that enables a goal-focused, strategy-oriented, accountable organization to transfer knowledge to human service agencies, transportation providers, consumers, and other interested stakeholders. Technical assistance is intended to provide extensive information and assistance to facilitate adoption or application of research-based or practice-based products, policies, or knowledge in order to improve the provision of transportation services for people with disabilities, older adults, and individuals with lower incomes. In order to ensure that all communities have access to technical assistance, the NRC will assist States with building capacity and accessing resources to be used in local communities across their States. In addition, the NRC will work closely with other technical assistance centers focused in areas of human service transportation when working with local communities to address coordination issues.

Technical assistance will need to focus on creating one-stop access to transportation services, streamlining eligibility, enhancing transportation coordination, mobility management, identifying solutions for coordinating policy and funding issues, implementing technology solutions, and social marketing to get information out to providers, policy makers and consumers. Technical assistance may include information dissemination, training, and enhancing capacity for building more efficient transportation services at the local and State levels. However, it is also intended to provide more intensive interaction to facilitate systems change related to practice, policy, research, resources, and programs at the Federal regional, State, and local levels. The NRC also will coordinate with other technical assistance initiatives related to human service transportation to ensure a coordinated approach in this area. In addition, all efforts of the NRC shall ensure consumer input and involvement such that all technical assistance to human service transportation organizations has a person centered, self-determination and independence focus in addition to a focus on the institutional relationships between transit and human service transportation.

Task 1—Collaboration with FTA and the Federal Coordinating Council on Access and Mobility

a. The grantee, in coordination with the Federal Project Officer shall provide technical assistance to the Coordinating Council on Access and Mobility (CCAM). This may include organizing monthly conference calls, providing input regarding infrastructure development of the CCAM activities related to human service transportation, formulating agendas, developing briefing materials, coordinating speakers for CCAM and their executive council meetings.

b. The grantee shall provide research-related technical assistance to project directors involved with human service transportation funded activities in CCAM member agencies. This includes queries regard specific information, publications, existing tools, strategies, and available data as requested.

c. Assist Federal program staff to conduct one special interest meeting each year on a targeted topic selected in consultation with FTA, members of the CCAM, and the NRS steering committee. Special interests meetings should target topics that require input and consultation from a broad perspective, and are targeted to include stakeholders from National, State, and local levels that have expertise on the selected topic addressed at the meeting. Participant lists and invitations for the meeting should be submitted to the Federal Project Officer for review at least 60 days prior to the targeted meeting date for approval. Briefing materials should be submitted to the Project Officer at least two weeks prior to the meeting for review and approval. The meeting should lead to the outcome of a publications (e.g., strategy paper, tool, fact sheet, etc.) related to the topic discussed. In addition, the grantee should submit a summary report of the meeting within 30 working days.

Task 2—Research and Development

SAFETEA-LU outlines several specific research projects to be conducted by the recipient and include the following:

a. In year one, the NRC shall prepare an inventory of human service transportation agencies operating in the United States and a plan to update the information on a regular schedule. The applicant should present a detailed methodology for conducting this specific research project as part of the submission in the initial application for this funding.

b. In year two, the NRC shall prepare an inventory of Federal transportation spending and a plan to update this information on an ongoing basis.

c. Each year, the NRC shall submit an annual report to the Secretary of Transportation on activities under this program and make recommendations for improving coordination.

d. In addition, the NRC shall conduct relevant research in years 3-5 for coordinating human service transportation identified by the Federal Interagency Coordinating Council, members of the national coalition, and other stakeholders. This specific scope of the research agenda will be determined in collaboration with the Federal Project Officer for each targeted year.

Each of these reports must be submitted to the Project Officer and steering committee for review and approval prior to final publication. All documents produced are subject to internal policy reviews from senior management within the Department of Transportation and other members of the CCAM. All revisions will be made by the grantee on behalf of FTA and the CCAM.

Task 3—Technical Assistance and Training

Technical Assistance and Training. When conducting and coordinating technical assistance, sites should have individual technical assistance plans that outline the specific need, intended outcome, plan for assistance, and evaluation components. Technical assistance will be provided via E-mail, phone, Web-based strategies, and on-site strategies, using the following principles:

• Assessment and Planning: Assistance should be provided for facilitating assessment of resources available for human service transportation and facilitating planning for coordinating services based on needs identified at the State and local levels.

• Knowledge Management: Constant assessment should be made of areas of technical assistance focus to ensure useful practices are disseminated, issue briefs are developed as needed, and expert relationships with technical assistance recipients result in long-term information and knowledge transfer.

• Training: Training should be made available via various media to target specific topics related to human service transportation across the range of service options. Outreach regarding training should be available for human service providers, transportation providers, and consumers.

• Facilitation, Coalition Building, and Strategic Planning. Assistance should be provided to States in order to build coordinated strategies and dialogue across organizational cultures and agencies. Assistance should also be offered to assist States in identifying strategies for facilitating the adoption and implementation of useful practices at both the State and local levels.

• Follow up and Monitoring: Following any intervention (e.g., assessment, planning, training, etc.), follow up through E-mail, phone, and through on-site contacts are necessary to facilitate implementation of any key activities identified as part of the individual technical assistance plans.

• Evaluation: Assistance should provide skill development and process related assistance to States in order to establish mechanisms for monitoring and evaluating coordination activities at the State and local levels.

Technical Assistance Activities: The grantee will develop the following initiatives using the principles outlined above: the NRC role is to assist States and communities to build the capacity for coordinating human service transportation; to facilitate access to existing resources and training, and to work with other TA centers to effectively establish triage and referral mechanisms for States and local communities. The applicant will submit a detailed methodology and approach for providing for the activities identified below:

a. Provide ongoing technical assistance to the 50 States, the District of Columbia, and territories on the development and implementation of coordinated human service transportation systems through the activities through a proactive management approach that includes information sharing, training, site visits, telephone, electronic interfaces and other forms of ongoing interaction.

b. During the life of the cooperative agreement, develop and implement a technical assistance plan with each of the 50 States and territories to facilitate the implementation of coordinated human service transportation at the State and local levels.

c. Organize a systematic approach for annual site visits annually with States. The grantee shall work with the Federal project officer to develop criteria for determining the appropriateness of a site visit, selection of staff or consultants to conduct the site visits, actions needed prior to site visit by both staff and recipient, and intended goals/outcomes for the site visit. Prior to each site visit, the staff or grantee shall develop, with input from stakeholders (e.g., consumers, public and private transportation agencies, human service providers), an agenda and goals for the site visit. The grantee shall maintain documentation regarding all site visits to be included in quarterly reports.

d. Develop a strategy for ensuring that local communities and associated stakeholders have access to technical assistance for building and implementing coordinated human service transportation plans and strategies.

e. Coordinate technical assistance activities with other federally funded technical assistance centers focused on human service transportation. These centers include Project ACTION, JobLinks, the Community Transportation Assistance Program, the National Rural Transportation Assistance Program, the Planning Peer to Peer project, the Intelligent Transportation Systems (ITS) Peer to Peer project, the National Center for Senior Transportation, and others. In coordination with the Project Officer, the grantee shall develop efficient strategies and methods of establishing linkages, triage, referral, and data sharing processes with other federally funded technical assistance centers in the areas of human service transportation and others interested in building access and mobility. The role of the grantee is to ensure that technical assistance, training, and other activities are coordinated between the centers to avoid duplication, and maximize resources and available expertise.

f. Coordinate with other federally funded technical assistance centers to facilitate the development and implementation of a coordinated human service transportation system when working with local communities. This includes three components: (1) Strategies that address interdisciplinary approaches for providing transportation services that enhance access to employment, education, health, and other community activities for targeted populations; (2) strategies to develop, implement, and connect a family of services including auto acquisition and modification programs, driving transition, pedestrian environments, fixed route transit, paratransit services, flex route, vanpooling and ridesharing, taxi programs, door through door or escort options, voucher models, and volunteer transportation programs; and (3) strategies for integrating concepts for mobility management.

g. Measure and evaluate the performance of the NRC in providing technical assistance, and monitor progress towards targeted goals and outcomes.

Task 4—Strategic Development in Partnerships, Community Involvement in Human Service Transportation Coordination

Human service transportation coordination is very dynamic and new areas of significance continually emerge. It is essential that the grantee respond appropriately and address emerging issues. Additionally, the grantee shall provide expertise in strategic direction in human service transportation related to community involvement and public awareness as follows:

a. The grantee shall assess, analyze, and measure trends in the implementation of human service transportation activities on a State and regional basis and submit this information to FTA on an annual basis.

b. The grantee shall provide quarterly updates to FTA on pending and enacted legislation at all governmental levels related to human service transportation coordination, and the United We Ride initiative.

c. The grantee shall develop and maintain a comprehensive national coalition on human service transportation that is inclusive of advocacy organizations; public interest organizations; and provider organizations. This coalition shall include a network of transportation professionals, human service professionals, consumers, and policymakers at every level who understand the issues involved in the coordination of human service transportation and how coordination can be accomplished. The NRC will develop a strategic plan for the coalition that includes education, outreach, technical assistance and advocacy oriented activities that can be addressed collectively or by individual organizations. This coalition will serve to facilitate the development of state and local coalitions in all States and territories over the course of the cooperative agreement.

d. The grantee, shall assess, analyze and monitor key activities and milestones related to human service transportation of national organizations and Federal agencies, interagency liaison groups, private industry, workforce development organizations, faith-based/community organizations, professional organizations and others involved in the coalition on an annual basis.

e. Establish and/or expand up to 10 State coalitions annually that mirror the national coalition in regard to membership and strategy. The grantee shall provide guidance, direction, tools and strategies on establishing coalitions, which can be integrally involved in providing strategic direction for State and community involvement in human service transportation. Analyze, assess and evaluate the value of these coalitions and their activities with the Project Officer.

Task 5—Communication and Management Information Activities

The grantee must provide on-site assistance as needed at the U.S. Department of Transportation for tasks outlined in this section.

a. Coordinate all aspects (e.g., planning, logistics, design, travel, speakers, materials, briefing, etc.) of 10 interdisciplinary UWR regional meetings on behalf of the CCAM during this four year cooperative agreement. The planning of these meetings shall be conducted in consultation with a planning committee in each region that includes, at a minimum, Federal partners at the regional level, State agencies, and representatives from stakeholder groups representing different audiences targeted for participation. The Planning Committee and FTA Project Officer must review all documentation, plans, speaker information, invitation letters, participant lists, and information related to these meetings prior to any dissemination.

b. The grantee shall coordinate the development and dissemination of products and publications as needed based on an assessment of existing products, publications, training, and resources available through various sources. The grantee shall manage the United We Ride clearinghouse for all UWR products, publications, and information. This includes the availability and dissemination of hard and electronic copies upon request by individuals, agencies, organizations, speakers, and all others, including for distribution at meetings and events. Alternative formats (e.g., braille, electronic, large print) must be made available for all publications and products.

c. The grantee will develop at least one new publication each year. The type and nature of the product or publication will be determined in coordination with the Project Officer and the steering committee and shall be based on the needs assessment from states and local communities. All new publications must be reviewed and approved by the Project Officer and are subject to review by senior level management within DOT and other members of the CCAM. The grantee shall work collaboratively with FTA to coordinate input, direction and advice regarding required Federal clearances on all publications regardless of the medium (e.g., print, video, electronic, etc).

d. The grantee shall coordinate all aspects of the management and implementation of the United We Ride Web site (http://www.unitedweride.gov), which includes: (a) Maintaining and updating all information for each section of the Web site using Red Dot technology on a regularly scheduled basis; (b) updating the front page once each month; (c) entering up to 5 useful practices in the database each month; (d) posting up to 10 documents and/or announcements per month; (e) maintain an active list serve and consistent distribution of real-time information using GovDocs technology; (f) responding to submissions to the United We Ride electronic mailbox within 3 business days; and (g) providing ongoing recommendations for improvement strategies as needed. All documents and information posted on the Web site must meet the requirements and compliance of Section 508 of the Rehabilitation Act. The grantee must have a staff person with knowledge and experience relating to knowledge management available to be trained in Red-Dot technology and also available to work on-site at the U.S. Department of Transportation to post information directly. The grantee shall work with the Project Officer to establish a plan for approval of content for posting and disseminating information using these mechanisms.

e. Develop and disseminate a minimum of four electronic newsletters per year. The grantee shall submit the newsletter to the FTA Project Officer for approval three weeks prior to publication for approval.

f. In the first year, the grantee shall develop a database to be compatible with and integrated into the UWR Web site. This database shall include products and publications developed by various resources (including other technical assistance centers, national organizations, States, local organizations, etc.) that could potentially provide added value for human service transportation coordination. This includes video, curricula, and fact sheets and other publications. This database shall include the title, description, and information on how to obtain the documents included in the database. The database will also include any evaluation information related to the publication(s).

g. The grantee shall plan for at least ten (10) presentations at National meetings annually that involve other than local travel. The grantee shall submit a plan to the Project Officer at the beginning of each calendar year and coordinate with FTA and other federally funded TA centers to reduce duplication of effort. The presentations NRC staff intends to make at a local, State and national level are to be fully coordinated, with an ample timeline for discussion and approval by the Project Officer.

h. The grantee shall plan to coordinate and manage the UWR exhibit for up to 10 national, regional, and State meetings. These exhibits can be the same meetings where presentations are also taking place. It is expected that the grantee will use the newly developed United We Ride exhibits already available. In addition, the grantee will make the exhibit and handouts available to members of the national coalition, States, and other TA centers for use at targeted meetings. The grantee shall submit a plan to the Project Officer at the beginning of each calendar year and coordinate the FTA and other federal funded TA centers to reduce duplication of effort.

Task 6—Project Management and Administration

a. The grantee shall meet with the Project Officer and task order monitor within ten (10) working days after issuance of the task order to discuss the objectives of the cooperative agreement and any related projects.

b. The grantee will hold monthly meetings with the Project Officer to review the status of the project. Areas of discussion will include: (1) Accomplishments to date, (2) reviewing progress on tasks, and (3) challenges or problems in addressing specific tasks or meeting targeted deliverable dates. The grantee shall provide minutes of the meeting to the Project Officer five business days after the meeting.

c. The Project Coordinator of the NRC shall submit quarterly progress reports to the FTA project manager. The reports shall include the following items and provide information relevant for the particular period:

• General assessment of the progress of the NRC development and design;

• Significant accomplishments by objective and task;

• Project issues/concerns and recommended solutions;

• Updated project schedule:

○ Status of current tasks;

○ List of completed tasks;

○ Percent complete by task;

○ If slips in the schedule occur, the grantee shall propose how to mitigate the schedule deviations).

• Total budget by task:

○ Amount spent to date by task;

○ Amount remaining by task;

• Travel expense report.

d. The grantee will brief FTA and other members of the CCAM semi-annually on their technical assistance findings, key themes and results.

e. The NRC shall include a national steering committee to provide guidance and feedback throughout the life of the technical assistance center. Steering committee members shall consist of Federal, State, and local officials and organizations. Participation from organizations representing human service agencies representing various interests (e.g., Medicaid, workforce investment, rehabilitation services, aging networks, etc.), transportation organizations, and consumers are strongly encouraged. The steering committee shall participate in the review and development of products, publications, materials, and information. The NRC shall host full face to face committee meetings at least two times during the year. Other meetings can be held more often by phone.

II. Award Information

FTA will fund one cooperative agreement for a four year award. Year one of the cooperative agreement is for one million, five hundred eighty-four thousand dollars ($1,584,000). The anticipated notification date is the fall of 2006, with an anticipated starting date for the successful applicant of October 2006. Subsequent annual funding will be based on annual appropriations. FTA grantees with existing FTA projects are eligible to complete for this cooperative agreement.

The FTA will participate in activities by attending review meetings, commenting on technical reports, maintaining frequent contact with the project manager and approving key decisions and activities any redirecting activities if needed.

III. Eligibility Information

FTA is particularly interested in proposals for this cooperative agreement from national non-profit organizations with demonstrated capacity in State and community transportation services for older adults, people with disabilities, and individuals with lower incomes. A strong applicant has the following characteristics:

• An understanding of concepts and strategies for developing integrated access, including single entry point and one-stop transportation systems;

• An understanding of strategies for building a coordinated human service transportation program that utilizes and connects a comprehensive family of services;

• Demonstrated success with interdisciplinary strategies in human service and transportation related work;

• Experience with the development and implementation of integrated transportation systems with health care, education, employment and social support programs;

• Capacity for maintaining management information systems;

• Experience in implementation of consumer directed services;

• Capacity and experience in building coordination and collaboration between public and private sector, as well as critical pathways which include linkages with intermediary organizations such as employment and training agencies, hospital discharge planners, private pay insurance, special education transition programs, rehabilitation agencies, various social service and transportation system networks.

• Experience and demonstrated capacity to facilitate large and small group processes regarding policy development, resource allocation, systems change, administrative processes, and capacity building;

• Experience and knowledge of consumer involvement and consumer directed models in program planning and implementation;

• Capacity for developing and managing a technical assistance network using multiple types of intervention strategies (e.g., long distance, peer-to-peer, onsite, communities of practice, etc.);

• Capacity and experience in large scale systems change efforts;

• Capacity and experience for providing effective off-site technical assistance, including technical assistance by telephone and E-mail, moderated and unmoderated list-serves, Web-based seminars, topic-based conference calls, the internet (including the development of Web content), etc.;

• Understanding implementation of a range of transportation services including older driver, pedestrian access, fixed route, paratransit, assisted (door to door; hand to hand; escort) services, volunteer, taxi, and other types of transportation services provision;

• Capacity and experience for conducting face-to-face and Web-based training for consumers, human service providers, and transportation agencies.

IV. Proposal Content

Proposals shall be submitted in double-spaced format using Times New Roman 12 point font. The application must contain the following components:

1. Cover sheet (1 page): Includes entity submitting proposal, principal investigator, title, and contact information (e.g., address, phone, fax, and E-mail). Name and contact information for the entity' key point of contact for all cooperative activities (if different from principle investigators).

2. Abstract (2 pages): Abstract shall include background, purpose, methodology, intended outcomes, and plan for evaluation.

3. Detailed budget proposal and budget narrative.

4. Project narrative (not to exceed 75 pages): Project narrative shall include the following information:

a. Staff qualifications, experience in providing technical assistance and implementing the other tasks outlined in the solicitation. The proposal shall also include the proposed staff members' knowledge of issues related to human service transportation. One page biographical sketches for staff members shall be included in the appendices section of the proposal;

b. Existing and future capacity of organization to address the issues outlined in the proposal and ability to implement tasks 1-6 outlined under Section I in this solicitation;

c. Methodology for addressing tasks 1-6 outlined under Section I in this solicitation. The proposal shall also include objectives, activities, deliverables, milestones, timeline and intended outcomes for achieving the goals outlined in the scope for the first year;

d. Plan to work with stakeholders and build partnerships at the national, State, and local levels;

5. Project Management Plan that includes well defined objectives, tasks, activities, timelines, deliverables, indicators, and outcomes.

6. Plan for evaluation of NRC activities and data collection.

7. Supplemental materials and letters of support can be included in an appendices section that is beyond the 75 page limit. In addition to the full proposal, entities have the option to submit supplemental material such as: Brochures, publications, products, etc. These materials shall be delivered to Bryna Helfer, Federal Transit Administration, 400 7th Street SW., Room 9114, Washington, DC 20590.

V. Application Review Information.

Interdisciplinary review panels, including those external to FTA will be convened to review each proposal. Project proposals will be evaluated based on the following criteria and scoring system:

1. Staff qualifications, which includes experience in delivering technical assistance and training, knowledge of human service transportation, demonstrated process skills in assessment, strategic planning, facilitation, and other key areas associated with identified tasks. The entity shall also address a plan for knowledge retention. (15%).

2. Existing capacity of the organization, which includes clearinghouse functions, Web development and maintenance, technical assistance, training, long distance and on-site intervention strategies, and other identified tasks. (15%).

3. Understanding and reasonability of proposed goals, objectives, methodologies, activities, timelines, deliverables, and budget. (40%).

4. Plan to collaborate with stakeholders and establish effective partnerships to implement tasks. (20%).

5. Plan for evaluation and data collection. (10%).

VI. Award Administration Information

The anticipated notification date for the award of this cooperative agreement is the fall of 2006, with an anticipated start date for the successful applicant by late fall 2006. The Federal Transit Administrator's (FTA) will notify the successful entity. Following receipt of the FTA Administrator's notification letter, the successful entity will be required to submit its proposal through the FTA Transportation Electronic Award Management (TEAM) system Web site. FTA will manage the cooperative agreement through the TEAM system Web site. Before FTA may award Federal financial assistance through a Federal cooperative agreement, the entity must submit all certifications and assurances pertaining to itself and its project as required by Federal laws and regulations. Since Federal fiscal year 1995, FTA has been consolidating the various certifications and assurances that may be required of its awardees and the projects into a single document published in the Federal Register. The fiscal year 2006 Annual List of Certifications and Assurances for FTA Cooperative Agreements and Cooperative Agreements and Guidelines will be published in the Federal Register and posted on the FTA Web site at http://www.fta.dot.gov.

Issued on: August 24, 2006.
James S. Simpson,
Administrator.

[FR Doc. 06-7231 Filed 8-28-06; 8:45 am]

BILLING CODE 4910-57-M